DEPARTMENT OF TREASURY

Office of the General Counsel; Appointment of Members of the Legal Division to the Performance Review Board, Internal Revenue Service

This notice replaces listing published on September 16, 2008, Volume 73 FR, page #53490.

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Stephen Albrecht, Counselor to the General Counsel (Department of Treasury).

2. Steve T. Miller, Commissioner (Tax Exempt and Government Entities).

3. James Falcone, Acting Deputy Commissioner for Operations Support (IRS).

This publication is required by 5 U.S.C. 4314(c)(4).

Dated: October 3, 2008.
Donald L. Korb,
Chief Counsel, Internal Revenue Service.

[FR Doc. E8-24314 Filed 10-10-08; 8:45 am]

BILLING CODE 4830-01-P